DEPARTMENT OF THE TREASURY

Office of the Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless it displays a currently valid OMB control number. The OCC is soliciting comment concerning its information collection titled, “Privacy of Consumer Financial Information (12 CFR part 40).” The OCC is also giving notice that it has sent the information collection to OMB for review.

DATES: You should submit written comments by December 28, 2006.

ADDRESSES: You should direct your comments to:

Communications Division, Office of the Comptroller of the Currency, Public Information Room, Mailstop 1-5, Attention: 1557-0216, 250 E Street, SW., Washington, DC 20219. In addition, comments may be sent by fax to (202) 874-4448, or by electronic mail to regs.comments@occ.treas.gov. You can inspect and photocopy the comments at the OCC's Public Information Room, 250 E Street, SW., Washington, DC 20219. You can make an appointment to inspect the comments by calling (202) 874-5043.

Additionally, you should send a copy of your comments to OCC Desk Officer, 1557-0216, by mail to U.S. Office of Management and Budget, 725, 17th Street, NW., #10235, Washington, DC 20503, or by fax to (202) 395-6974.

FOR FURTHER INFORMATION CONTACT: You can request additional information or a copy of the collection from Mary Gottlieb, OCC Clearance Officer, or Camille Dickerson, (202) 874-5090, Legislative and Regulatory Activities Division, Office of the Comptroller of the Currency, 250 E Street, SW., Washington, DC 20219.

SUPPLEMENTARY INFORMATION: The OCC is proposing to extend OMB approval of the following information collection:

Title: Privacy of Consumer Financial Information (12 CFR part 40).

OMB Number: 1557-0216.

Description: This submission covers an existing regulation and involves no change to the regulation or to the information collection requirements. The OCC requests only that OMB approve its revised estimates.

These information collection requirements are required under the Gramm-Leach-Bliley Act (Pub. L. 106-102), which required the OCC to issue regulations as necessary to implement notice requirements and restrictions on a financial institution's ability to disclose nonpublic personal information about consumers to nonaffiliated third parties.

The information collection requirements in part 40 are as follows:

Section 40.4(a)—Disclosure (institution)—Initial privacy notice to consumers requirement—A bank must provide a clear and conspicuous notice that accurately reflects its privacy policies and practices to customers and consumers.

Section 40.5(a)—Disclosure (institution)—Annual privacy notice to customers requirement—A bank must provide a clear and conspicuous notice to customers that accurately reflects its privacy policies and practices not less than annually during the continuation of the customer relationship.

Section 40.8—Disclosure (institution)—Revised privacy notices—If a bank wishes to disclose information in a way that is inconsistent with the notices previously given to a consumer, the bank must provide consumers with a revised notice of the bank's policies and procedures and a new opt out notice.

Section—40.7(a)—Disclosure (institution)—Form of opt out notice to consumers; opt out methods—Form of opt out notice—If a bank is required to provide an opt out notice under § 40.10(a), it must provide a clear and conspicuous notice to each of its consumers that accurately explains the right to opt out under that section. The notice must state:

• That the bank discloses or reserves the right to disclose nonpublic personal information about its consumer to a nonaffiliated third party.

• That the consumer has the right to opt out of that disclosure.

• A reasonable means by which the consumer may exercise the opt out right

The bank must provide reasonable opt out means such as by—

• Designating check-off boxes on the relevant forms with opt out notice.

• Including reply form with opt out notice.

• Providing electronic means to opt out; or,

• Providing a toll-free number to opt out.

Sections 40.10(a)(2) and 40.10(c)—Consumers must take affirmative actions to exercise their rights to prevent financial institutions from sharing their information with nonaffiliated parties—

• Opt out—Consumers may direct that the bank not disclose nonpublic personal information about them to a nonaffiliated third party, other than permitted by §§ 40.13-40.15.

• Partial opt out—Consumers may also exercise partial opt out rights by selecting certain nonpublic personal information or certain nonaffiliated third parties with respect to which the consumer wishes to opt out.

Sections 40.7(f) and (g)—Reporting (consumer)—Consumers may exercise continuing right to opt out—Consumer may opt out at any time—A consumer's direction to opt out is effective until the consumer revokes it in writing or, if the consumer agrees, electronically. When a customer relationship terminates, the customer's opt out direction continues to apply.

At the time part 40 was promulgated, the OCC used nominal burden estimates due to the uncertainty of what institutions would do to comply with the opt-out requirements and how consumers would react. The OCC is now revisiting its estimates to determine how they could be made more accurate.

The OCC does not require its institutions to report the percentage of consumers choosing to opt out. Absent this information, we estimate that between 2% and 12% of consumers with new mortgages or credit cards and 1% of consumers with deposit accounts under $100,000 will opt out under part 40. While we understand that an increase in the number of consumers opting out will increase the burden on the industry due to the processing time associated with the additional opt outs, we have not adjusted our burden estimates for the industry because we do not have reliable figures about the rate of opt outs.

Therefore, we estimate that between 3 and 17.9 million consumers will opt out. Our estimates set forth in this notice reflect the midpoint of 9 million. We invite comment on our estimates and welcome any other information that might assist us in making them more accurate.

Type of Review: Extension of a currently approved collection.

Affected Public: Businesses or other for-profit; individuals.

Estimated Annual Number of Institution Respondents: Initial Notice, 50; Annual Notice and Change in Terms, 1,869; Opt-out Notice, 935.

Estimated Average Time Per Response Per Institution: Initial Notice, 80 hours; Annual Notice and Change in Terms, 8 hours; Opt-out Notice, 8 hours.

Estimated Subtotal Annual Burden Hours for Institutions: 26,432 hours.

Estimated Annual Number of Consumer Respondents: 9,000,000.

Estimated Average Time Per Consumer Response: 0.25 hours.

Estimated Subtotal Annual Burden Hours for Consumers: 2,250,000 hours.

Estimated Total Annual Burden Hours: 2,276,432 hours.

On September 22, 2006, the OCC published a 60-Day Federal Register Notice setting forth these estimates. 71 FR 55545. No comments were received. Comments continue to be invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: November 22, 2006.
Stuart Feldstein,
Assistant Director, Legislative and Regulatory Activities Division.

[FR Doc. E6-20108 Filed 11-27-06; 8:45 am]

BILLING CODE 4810-33-P